FEDERAL COMMUNICATIONS COMMISSION

[OMB 3060-XXXX]

Information Collection Being Submitted for Review and Approval to the Office of Management and Budget

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written comments should be submitted on or before October 9, 2015. If you anticipate that you will be submitting comments, but find it difficult to do so within the period of time allowed by this notice, you should advise the contacts below as soon as possible.

ADDRESSES: Direct all PRA comments to Nicholas A. Fraser, OMB, via email Nicholas_A._Fraser@omb.eop.gov; and to Cathy Williams, FCC, via email PRA@fcc.gov and to Cathy.Williams@fcc.gov. Include in the comments the OMB control number as shown in the SUPPLEMENTARY INFORMATION section below.

FOR FURTHER INFORMATION CONTACT: For additional information or copies of the information collection, contact Cathy Williams at (202) 418-2918. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION:

OMB Control Number: 3060-XXXX.

Title: Sections 96.17; 96.21; 96.23; 96.33; 96.35; 96.39; 96.41; 96.43; 96.45; 96.51; 96.57; 96.59; 96.61; 96.63; 96.67, Commercial Operations in the 3550-3650 MHz Band.

Form Number: N/A.

Type of Review: New information collection.

Respondents: Business or other for-profit entities, state, local, or tribal government and not for profit institutions.

Number of Respondents: 110,782 respondents; 136,432 responses.

Estimated Time per Response: 0 to .5 hours.

Frequency of Response: One-time and on occasion reporting requirements; other reporting requirements—as-needed basis for the equipment safety certifications, and consistently (likely daily) responses automated via the device.

Obligation to Respond: Required to obtain or retain benefits. Statutory authority for these collections are contained in 47 U.S.C. 151, 152, 154(i), 154(j), 155(c), 302(a), 303, 304, 307(e), and 316 of the Communications Act of 1934.

Total Annual Burden: 37,977 hours.

Total Annual Cost: $7,318,100.

Privacy Impact Assessment: No impact(s).

Nature and Extent of Confidentiality: There is no need for confidentiality with this collection of information.

Needs and Uses: The FCC adopted a Report and Order, FCC 15-47, that establishes rules for commercial use of 150 megahertz in the 3550-3700 MHz (3.5 GHz) band and created a new Citizens Broadband Radio Service, on April 17, 2015, published at 80 FR 36163 (June 23, 2015). The order creates a Spectrum Access System (SAS), an online database that will manage and coordinate frequency use in the band through registration and other technical information. The Commission seeks approval from the Office of Management and Budget (OMB) for the information collection requirements contained in FCC 15-47. The SAS will use the information to assign frequencies, manage interference, and authorize spectrum use. The Commission will use the information to authorize the SAS Administrator(s) and ESC operator(s). The following is a description of the information collection requirements for which the Commission seeks OMB approval:

Section 96.17(d) requires that FSS Earth Station licensees register annually with the SAS to receive interference protection.

Section 96.21(a)(3) requires that existing commercial wireless broadband licensees operating in the band register in order to receive interference protection.

Sections 96.23(b); 96.33(b); 96.39(a)(1) and (c)-(e); 96.43(b); 96.45(d) require that the Citizens Broadband Radio Services Devices (CBSDs), which will operate on the Citizens Broadband Radio Service, must be registered with an SAS before use, provide specified information to the SAS, and adhere to certain operating parameters.

Section 96.35(e) requires that users operating Category B CBSDs must coordinate among each other and resolve interference through technological solutions or other agreements.

Sections 96.39(a) and (b) require that CBSDs report their geographic coordinates to an SAS automatically through the device or by a professional installer.

Sections 96.39(f) and (g) require that CBSDs incorporate sufficient security measures so that they are only able to communicate with the SAS and approved users and devices.

Section 96.41(d)(1) requires that licensees must report the use of an alternative Received Signal Strength Limit (RSSL) to the SAS.

Section 96.51 requires that manufacturers include a statement of compliance with the Commission's Radio Frequency (RF) safety rules with equipment authorization applications. Sections 96.57(a)-(c); 96.59(a); 96.61 require that the SAS be capable of receiving registration and technical information from CBSDs, SASs, and ESCs, as well as employ secure communication protocols.

Section 96.63 requires that SAS Administrator applicants must demonstrate to the Commission that they are qualified to manage an SAS.

Section 96.67 requires that an Environmental Sensing Capability (ESC), used to protect federal radar systems from interference, may only operate after receiving Commission approval and be able to communicate information about the presence of a federal system and maintain security of the detected signals.

These rules which contain information collection requirements are designed to provide for flexible use of this spectrum, while managing three tiers of users in the band, and create a low-cost entry point for a wide array of users. The rules will encourage innovation and investment in mobile broadband use in this spectrum while protecting incumbent users. Without this information, the Commission would not be able to carry out its statutory responsibilities.

Federal Communications Commission.
Marlene H. Dortch,
Secretary, Office of the Secretary.

[FR Doc. 2015-22596 Filed 9-8-15; 8:45 am]

BILLING CODE 6712-01-P